DEPARTMENT OF TRANSPORTATION

Federal Highway Administration

[Docket No. FHWA-2024-0051]

Agency Information Collection Activities: Request for Comments for a New Information Collection

AGENCY: Federal Highway Administration (FHWA), DOT.

ACTION: Notice and request for comments.

SUMMARY: The FHWA has forwarded the information collection request described in this notice to the Office of Management and Budget (OMB) to approve a new information collection. We are required to publish this notice in the Federal Register by the Paperwork Reduction Act of 1995.

DATES: Please submit comments by August 19, 2024.

ADDRESSES: You may submit comments identified by DOT Docket ID Number 0051 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Aimee Zhang, (202) 366-6537, Office of Safety Technologies, Federal Highway Administration, 1200 New Jersey Avenue SE, Washington, DC 20590. Office hours are from 7:30 a.m. to 4 p.m., Monday through Friday, except Federal holidays.

SUPPLEMENTARY INFORMATION: We published a Federal Register Notice with a 60-day public comment period on this information collection on March 22, 2024, at [89 FR 20529]. The comments and FHWA's responses are below:

Four comments were received, as shown below.

Comment received from Louisiana Department of Transportation and Development (LADOTD) on April 26, 2024. LADOTD requests that FHWA continue the service of issuance of Federal-aid eligibility letters. LADOTD expressed that it does not have staff and experience to determine MASH crashworthiness for roadside safety hardware and relies on the FHWA letters in order to decide of crashworthiness. LADOTD states that if states were to be solely responsible for determination of crashworthiness, it would be ideal to implement an online forum/message-board for the states to share data regarding crash tests reports, so that state subject matter experts could assist and or provide comments/concerns regarding a particular device. FHWA acknowledge receiving the comment and will not respond to this comment because there is not contact information left.

Comment received from Virginia Department of Transportation (VDOT) on May 2, 2024. VDOT strongly appreciate FHWA's current practice and role relating to issuing issuance of Federal-aid eligibility letters for roadside safety hardware. VDOT believes the information collection is necessary for FHWA to continue the service to states of issuance of eligibility letters, and there is no other organization can take over the FHWA's role of evaluator of crashworthiness. VDOT does not have recommendation in terms of technology improvement to minimize burden of data collection. VDOT is willing to attest the usefulness and value of the eligibility letters issued by FHWA. FHWA acknowledge receiving the comment and will not respond to this comment because there is not contact information left.

Comment received from Glenn Kowalske on May 13, 2024. The comment does not apply to this notice. No action from FHWA.

Comment received from American Traffic Safety Services Association (ATSSA), 2024, received May 7, 2024. FHWA—Office of Safety has drafted a response letter to ATSSA and will send the response to ATSSA.

Title: Request for Federal Aid Reimbursement Eligibility of Safety Hardware Devices.

Background: The FHWA' s longstanding policy is that all roadside safety hardware installed on the National Highway System (NHS) be crashworthy. To support this policy, the AASHTO/FHWA Joint Implementation Agreement for the Manual for Assessing Safety Hardware (MASH) was adopted. This agreement implemented AASHTO MASH as the criteria for determining crashworthiness of roadside safety hardware.

FHWA provides a service to States and industry by reviewing tests for roadside hardware, ensuring that they have been tested in accordance with MASH criterion, and issuing a federal aid eligibility letter for roadside hardware that meet review standards. An eligibility letter is not a requirement for roadside safety hardware to be determined eligible for Federal funding. Roadside safety hardware is eligible for Federal funding if it has been determined to be crash worthy by the user agency.

To issue eligibility letters for roadside safety hardware, the FHWA needs to collect and review crash test results and hardware information from the submitters.

Respondents: Approximately 50 submissions are received annually.

Frequency: Annually.

Estimated Average Burden per Response: Averages 2 hours per submission.

Estimated Total Annual Burden Hours: Approximately 100 hours annually.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: July 16, 2024.
Jazmyne Lewis,
Information Collection Officer.

[FR Doc. 2024-15921 Filed 7-18-24; 8:45 am]

BILLING CODE 4910-22-P